GENERAL SERVICES ADMINISTRATION

[Notice-MA-2012-02; Docket No. 2012-0004; Sequence 5]

Maximum Per Diem Rates for the Continental United States (CONUS)

AGENCY: Office of Governmentwide Policy (OGP), General Services Administration (GSA).

ACTION: Notice of GSA Per Diem Bulletin FTR 13-01, Fiscal Year (FY) 2013 Continental United States (CONUS) per diem rates.

SUMMARY: The General Services Administration's (GSA) Fiscal Year (FY) 2013 per diem review has resulted in lodging and meal allowance changes for certain locations within the continental United States (CONUS) to provide for reimbursement of Federal employees' expenses covered by per diem. All current non-standard area (NSA) lodging per diem rates will remain at FY 2012 levels for FY 2013. The standard lodging per diem rate of $77 will also continue to remain the same for FY 2013. The meals and incidental expense tiers remain unchanged for FY 2013 and range from $46-$71. GSA identified 10 new NSAs: Bakersfield/Ridgecrest, California (Kern County); Stockton, California (San Joaquin County); Hancock and Pearl River Counties in Mississippi; Sidney/Glendive, Montana (Richland and Dawson Counties); Dickinson/Beulah, North Dakota (Stark, Mercer, and Billings Counties); Minot, North Dakota (Ward County); Williston, North Dakota (Williams, Mountrail, and McKenzie Counties); Carlsbad, New Mexico (Eddy County); Watertown, New York (Jefferson County); and Pasco, Washington (Franklin County). The CONUS per diem rates prescribed in Bulletin 13-01 may be found at www.gsa.gov/perdiem. GSA bases the lodging rates on the average daily rate that the lodging industry reports to an independent organization. If a lodging rate or a per diem rate is insufficient to meet necessary expenses in any given location, Federal executive agencies can request that GSA review that location. Please review numbers five and six of GSA's per diem Frequently Asked Questions at (www.gsa.gov/perdiemfaqs) for more information on the special review process.

In addition, the Federal Travel Regulation allows for actual expense reimbursement as provided in §§ 301-11.300 through 301-11.306.

DATES: This notice is effective on September 5, 2012 and applies for travel performed on or after October 1, 2012.

FOR FURTHER INFORMATION CONTACT: For clarification of content, contact Ms. Jill Denning, Office of Governmentwide Policy, Office of Asset and Transportation Management, at 202-208-7642, or by email at travelpolicy@gsa.gov. Please cite Notice of GSA Per Diem Bulletin FTR 13-01.

SUPPLEMENTARY INFORMATION:

Background

GSA issues and publishes the CONUS per diem rates, formerly published in Appendix A to 41 CFR Chapter 301, solely on the Internet at www.gsa.gov/perdiem. This process, implemented in 2003, ensures more timely changes in per diem rates established by GSA for Federal employees on official travel within CONUS. Notices published periodically in the Federal Register, such as this one, now constitute the only notification of revisions in CONUS per diem rates to agencies.

Dated: August 27, 2012.
Janet Dobbs,
Deputy Associate Administrator, Office of Asset and Transportation Management.

[FR Doc. 2012-21854 Filed 9-4-12; 8:45 am]

BILLING CODE 6820-14-P